DEPARTMENT OF HEALTH AND HUMAN SERVICES

Food and Drug Administration

[Docket No. FDA-2023-F-5500]

Kemin Industries, Inc.; Filing of Food Additive Petition (Animal Use); Chromium Propionate; Correction

AGENCY: Food and Drug Administration, HHS

ACTION: Notification of petition; correction.

SUMMARY: The Food and Drug Administration is correcting a notice entitled “Kemin Industries, Inc.; Filing of Food Additive Petition (Animal Use)” that appeared in the Federal Register of July 27, 2023. The document announced that we filed a petition, submitted by Kemin Industries, Inc., proposing that the food additive regulations be amended to provide for the safe use of chromium propionate to be used as a source of chromium in turkey feed. The document was published with an incorrect docket number. This document corrects that error.

FOR FURTHER INFORMATION CONTACT: Wasima Wahid, Center for Veterinary Medicine (HFV-221), Food and Drug Administration, 12225 Wilkins Ave., Rockville, MD 20852, 240-402-5857, wasima.wahid@fda.hhs.gov.

SUPPLEMENTARY INFORMATION: In the Federal Register of Thursday, July 27, 2023 (88 FR 48406) in FR Doc. 2023-15913, the following correction is made:

On page 48406, in the first column, in the header of the document, “Docket No. FDA-2023-F-2415” is corrected to read “Docket No. FDA-2023-F-5500”.

Dated: December 21, 2023.
Lauren K. Roth,
Associate Commissioner for Policy.

[FR Doc. 2023-28512 Filed 12-26-23; 8:45 am]

BILLING CODE 4164-01-P